DEPARTMENT OF HOMELAND SECURITY

Coast Guard

33 CFR Parts 140-147

[Docket No. USCG-2012-0779]

RIN 1625-AC05

Safety and Environmental Management System Requirements for Vessels on the U.S. Outer Continental Shelf—Extension of Comment Period

AGENCY: Coast Guard, DHS.

ACTION: Notice.

SUMMARY: The Coast Guard is extending the comment period for the advance notice of proposed rulemaking (ANPRM) entitled “Safety and Environmental Management System Requirements for Vessels on the U.S. Outer Continental Shelf,” published on September 10, 2013, until January 23, 2014. We are extending the comment period at the request of industry to ensure stakeholders have adequate time to submit complete responses.

DATES: Comments and related material must either be submitted to our online docket via http://www.regulations.gov on or before January 23, 2014 or reach the Docket Management Facility by that date.

ADDRESSES: You may submit comments identified by docket number USCG-2012-0779 using any one of the following methods:

(1) Online: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this advance notice of proposed rulemaking, call or email LCDR Marc J. Montemerlo, U.S. Coast Guard; telephone 202-372-1387, email Marc.J.Montemerlo@uscg.mil. If you have questions on viewing or submitting material to the docket, call Barbara Hairston, Program Manager, Docket Operations, telephone 202-366-9826.

SUPPLEMENTARY INFORMATION:

I. Public Participation and Request for Comments

We encourage you to participate in this rulemaking by submitting comments and related materials. All comments received will be posted without change to http://www.regulations.gov and will include any personal information you have provided.

A. Submitting Comments

If you submit a comment, please include the docket number for this rulemaking (USCG-2012-0779), indicate the specific section of this document to which each comment applies, and provide a reason for each suggestion or recommendation. You may submit your comments and material online or by fax, mail, or hand delivery, but please use only one of these means. We recommend that you include your name and a mailing address, an email address, or a phone number in the body of your document so that we can contact you if we have questions regarding your submission.

To submit your comment online, go to http://www.regulations.gov and insert “USCG-2012-0779” in the “Search” box. Click on “Submit a Comment” in the “Actions” column. If you submit your comments by mail or hand delivery, submit them in an unbound format, no larger than 8½ by 11 inches, suitable for copying and electronic filing. If you submit comments by mail and would like to know that they reached the Facility, please enclose a stamped, self-addressed postcard or envelope.

We will consider all comments and material received during the comment period and may change this proposed rule based on your comments.

B. Viewing Comments and Documents

To view comments, as well as documents mentioned in this preamble as being available in the docket, go to http://www.regulations.gov, insert “USCG-2012-0779” and click “Search.” Click the “Open Docket Folder” in the “Actions” column. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

C. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

II. Regulatory History and Information

The Coast Guard published an ANPRM entitled “Safety and Environmental Management System Requirements for Vessels on the U.S. Outer Continental Shelf,” on September 10, 2013 (78 FR 55230) proposing to promulgate regulations that will require all domestic and foreign-flagged vessels engaged in OCS activities to develop, implement, and maintain a SEMS that incorporates the management program and principles of API RP 75. This requirement would apply to MODUs, well stimulation vessels, FPSOs, shuttle tankers, OSVs, accommodation vessels, and other vessels engaged in OCS activities. A Coast Guard-required SEMS would help to prevent accidents, injuries, and environmental damage by reducing the probability and severity of uncontrolled releases and other undesirable events. By incorporating the management program and principles of API RP 75 as the basis for the Coast Guard's SEMS requirements for vessels, this regulatory action would leverage industry safety expertise and harmonize with BSEE's regulations for designated lease operators. All comments on this ANPRM were originally due by December 9, 2013.

III. Background and Purpose

On October 4, 2013, we received a letter from Offshore Marine Service Association (OMSA) requesting an extension of the comment period. It noted additional time was desired to review the proposal and develop answers to the sixteen questions listed in the ANPRM. The U.S. Coast Guard is extending the public comment period, as requested, to ensure stakeholders have adequate time to submit complete responses.

IV. Authority

This notice is issued under authority of 5 U.S.C. 552(a).

Dated: November 4, 2013.
J.G. Lantz,
Director of Commercial Regulations and Standards, U.S. Coast Guard.

[FR Doc. 2013-26878 Filed 11-8-13; 8:45 am]

BILLING CODE P